DEPARTMENT OF HOMELAND SECURITY

Federal Emergency Management Agency

[Docket ID FEMA-2016-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of December 8, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: August 3, 2016.
Roy E. Wright,
Deputy Associate Administrator for Insurance and Mitigation, Department of Homeland Security, Federal Emergency Management Agency.

I. Watershed-based studies:

Community | Community map repository address
Upper Ocmulgee Watershed
DeKalb County, Georgia and Incorporated Areas
Docket No.: FEMA-B-1523
City of Lithonia | City Hall, 6920 Main Street, Lithonia, GA 30058.
City of Stone Mountain | City Hall, 875 Main Street, Stone Mountain, GA 30083.
Unincorporated Areas of DeKalb County | DeKalb County Roads and Drainage Department, 727 Camp Road, Decatur, GA 30032.
Rockdale County, Georgia and Incorporated Areas
Docket No.: FEMA-B-1523
City of Conyers | Planning and Inspection Services, 1174 Scott Street, Conyers, GA 30012.
Unincorporated Areas of Rockdale County | Rockdale County Administration and Services Building, 958 Milstead Avenue, Conyers, GA 30012.
Walton County, Georgia and Incorporated Areas
Docket No.: FEMA-B-1523
City of Loganville | Planning and Development Office, 4385 Pecan Street, Loganville, GA 30052.
City of Monroe | City Hall, 215 North Broad Street, Monroe, GA 30655.
City of Social Circle | City Hall, 166 North Cherokee Road, Social Circle, GA 30025.
City of Walnut Grove | Walnut Grove City Hall, 2581 Leone Avenue, Loganville, GA 30052.
Town of Between | Between Town Hall, 2150 New Hope Church Road Southwest, Monroe, GA 30655.
Unincorporated Areas of Walton County | Walton County Planning and Development Office, 303 South Hammond Drive, Monroe, GA 30655.
Lower Wisconsin Watershed
Richland County, Wisconsin and Incorporated Areas
Docket No.: FEMA-B-1426
City of Richland Center | City Hall, 450 South Main Street, Richland Center, WI 53581.
Unincorporated Areas of Richland County | Richland County Zoning Administrator Office, 181 West Seminary Street, Room 309, Richland Center, WI 53581.
Village of Boaz | Boaz Village Hall, 25433 Jackson Street, Richland Center, WI 53581.
Village of Cazenovia | Village Hall, 310 North Highway 58, Cazenovia, WI 53924.
Village of Lone Rock | Village Hall, 314 East Forest Street, Lone Rock, WI 53556.
Village of Viola | Village Hall, 106 West Wisconsin Street, Viola, WI 54664.
Village of Yuba | Village Hall, 22099 Main Street, Yuba, WI 54634.

II. Non-watershed-based studies:

Community | Community map repository address
Brown County, Indiana and Incorporated Areas
Docket No.: FEMA-B-1463
Town of Nashville | Brown County Area Plan Commission, 201 Locust Lane, Nashville, IN 47448.
Unincorporated Areas of Brown County | Brown County Area Plan Commission, 201 Locust Lane, Nashville, IN 47448.
Benton County, Oregon and Incorporated Areas
Docket No.: FEMA-B-1511
Unincorporated Areas of Benton County | Benton County Community Development Department, 360 Southwest Avery Avenue, Corvallis, OR 97333.
Linn County, Oregon and Incorporated Areas
Docket No.: FEMA-B-1511
City of Albany | City Hall, 333 Broadalbin Street Southwest, Albany, OR 97321.
Unincorporated Areas of Linn County | Linn County Courthouse, 300 Southwest 4th Avenue, Albany, OR 97321.

[FR Doc. 2016-19669 Filed 8-17-16; 8:45 am]

BILLING CODE 9110-12-P